DEPARTMENT OF ENERGY

Federal Energy Regulatory Commission

[Docket No. RP00-220-000]

Town of Neligh, Nebraska v. Kinder Morgan Interstate Gas Transmission, LLC and KN Energy, a division of Kinder-Morgan, Inc.; Notice on Procedures

May 9, 2000.

On March 23, 2000, the Town of Neligh, Nebraska (Neligh) filed a complaint against Kinder Morgan Interstate Gas Transmission, LLC (KMI) ¹ and KN Energy, a division of Kinder-Morgan, Inc. (KN Energy) pursuant to Section 5 of the Natural Gas Act (NGA) ² and Rule 206 of the Commission's regulations.³ Neligh requests that its complaint be considered under the Commission's Fast Track complaint procedures set forth in section 206(h) of the Commission's regulations.⁴ On April 12, 2000, we issued and order directing the Commission Staff to convening a technical conference at which the parties and Commission staff could explore the issues raised in this proceeding, including whether Fast Track treatment is appropriate.⁵ The technical conference was held on April 18, 2000.

¹ Neligh filed its complaint against KN Interstate Gas Transmission Company. However, on December 28, 1999, that company changed its name to Kinder Morgan Interstate Gas Transmission LLC.

² 15 U.S.C. 717(d).

³ 18 CFR 385.206.

⁴ 18 CFR 206(h).

⁵ 91 FERC ¶ 61,034(2000).

While we recognize Neligh's desire to own and operate its distribution system, the facts provided at the technical conference and in subsequent pleadings indicate that KMI and KN Energy will continue to provide transmission service to the town of Neligh until the time that this complaint can be processed.

The Commission orders:

Neligh's complaint will be processed pursuant to the Commission's standard complaint procedures.

By direction of the Commission.
David P. Boergers,
Secretary.

[FR Doc. 00-12121 Filed 5-12-00; 8:45 am]

BILLING CODE 6717-01-M